DEPARTMENT OF TRANSPORTATION

Federal Aviation Administration

Agency Information Collection Activity Under OMB Review

AGENCY: Federal Aviation Administration (FAA), DOT.

ACTION: Notice.

SUMMARY: In compliance with the Paperwork Reduction Act of 1995 (44 U.S.C. 3501 et seq.), this notice announces that the Information Collection Request (ICR) abstracted below has been forwarded to the Office of Management and Budget (OMB) for approval of a new collection. The ICR describes the nature of the information collection and the expected burden. The Federal Register Notice with a 60-day comment period soliciting comments on the following collection of information was published on July 8, 2003 on page 40730.

DATES: Comments must be submitted on or before December 5, 2003. A comment to OMB is most effective if OMB receives it within 30 days of publication.

FOR FURTHER INFORMATION CONTACT: Judy Street on (202) 267-9895.

SUPPLEMENTARY INFORMATION:

Federal Aviation Administration (FAA)

Title: Information for the Prevention of Aircraft Collisions on Runways at Towered Airports.

Type of Request: Approval of a new collection.

OMB Control Number: 2120-xxxx.

Form(s): N/A.

Affected Public: A total of 10,000 airport and aircraft operators.

Abstract: Runway incursions are a risk to the public traveling in aircraft. Reduction of runway incursions is listed by the DOT Office of the Inspector General as one of the top ten transportation management improvements needed, the National Transportation Safety Board (NTSB) has selected runway safety as one of their “most wanted” transportation safety improvements, and the FAA Administrator has directed that runway safety be one of the FAA's top five safety priorities. FAA has been concentrating on this issue for a decade and progress has been elusive, in part because of a lack of feedback from people working and flying on the runways in the NAS. Feedback from surveys will be used in the prevention of runway collisions and in the reduction of the severity and frequency of runway incursions.

Estimated Annual Burden Hours: An estimated 1,670 hours annually.

ADDRESSES: Send comments to the Office of Information and Regulatory Affairs, Office of Management and Budget, 725 17th Street, NW., Washington, DC 20503, Attention FAA Desk Officer.

Comments are invited on: Whether the proposed collection of information is necessary for the proper performance of the functions of the Department, including whether the information will have practical utility; the accuracy of the Department's estimates of the burden of the proposed information collection; ways to enhance the quality, utility and clarity of the information to be collected; and ways to minimize the burden of the collection of information on respondents, including the use of automated collection techniques or other forms of information technology.

Issued in Washington, DC, on October 29, 2003.
Judith D. Street,
FAA Information Collection Clearance Officer, APF-100.

[FR Doc. 03-27755 Filed 11-4-03; 8:45 am]

BILLING CODE 4910-13-M